FEDERAL DEPOSIT INSURANCE CORPORATION

Establishment of the FDIC Advisory Committee on Community Banking

AGENCY: Federal Deposit Insurance Corporation (FDIC).

ACTION: Notice.

SUMMARY: The Chairman of the Federal Deposit Insurance Corporation has decided to establish the FDIC Advisory Committee on Community Banking (“the Committee”). The Committee will provide advice and recommendations on a broad range of policy issues that have a particular impact on small community banks throughout the United States and the local communities that are served by those community banks, including a focus on rural areas. The Committee will review various issues concerning community banks that may include, but are not limited to, the latest examination policies and procedures, credit and lending practices, deposit insurance assessments, insurance coverage issues, and regulatory compliance matters, as well as any obstacles to the continued growth and ability of community banks to extend financial services in their local markets in the current market environment. The Chairman certifies that the establishment of this advisory committee is in the public interest in connection with the performance of duties imposed on the FDIC by law.

FOR FURTHER INFORMATION CONTACT: Robert E. Feldman, Executive Secretary, FDIC, 550 17th Street, NW., Washington, DC 20429; telephone (202) 898-7043. Additional information is available at http://www.fdic.gov/communitybanking. If you are interested in being considered for membership on this Advisory Committee, send your resume or biographical information, as well as a brief summary (limited to one page in length) of the reason(s) you are interested in serving on the Advisory Committee, and how you are qualified to represent a particular group or industry sector, by July 3, 2009, to the following e-mail address: CommunityBanking@fdic.gov. Committee members will not receive any compensation for their services other than reimbursement for reasonable travel expenses incurred to attend Advisory Committee meetings.

SUPPLEMENTARY INFORMATION: In accordance with the requirements of the Federal Advisory Committee Act (“FACA”) 5 U.S.C. App. 2, notice is hereby given that the Chairman of the FDIC intends to establish the FDIC Advisory Committee on Community Banking (“the Committee”). After consultation with the General Services Administration, as required by section 9(a)(2) of FACA and 41 CFR 102-3.65, the Chairman of the FDIC certifies that she has determined that the establishment of the Committee is in the public interest in connection with the performance of duties imposed on the FDIC by law. The Committee will provide advice and recommendations on a broad range of policy issues that have a particular impact on small community banks throughout the United States and the local communities that are served by those community banks, including a focus on rural areas. The Committee will review various issues concerning community banks that may include, but are not limited to, the latest examination policies and procedures, credit and lending practices, deposit insurance assessments, insurance coverage issues, and regulatory compliance matters, as well as any obstacles to the continued growth and ability of community banks to extend financial services in their local markets in the current market environment. The Committee will function solely as an advisory body, and in compliance with the provisions of the Federal Advisory Committee Act. The Committee will represent community banks of various sizes and charter types, both urban and rural, from different regions of the country, and members of the Committee may also represent individuals, small businesses, not-for-profit community organizations, or other entities that rely on community banks to provide credit and other banking services in their communities, as well as one or more representatives from academic institutions.

Dated at Washington, DC, this 3rd day of May, 2009.
Valerie J. Best,
Assistant Executive Secretary.

[FR Doc. E9-13251 Filed 6-5-09; 8:45 am]

BILLING CODE 6714-01-P